DEPARTMENT OF TRANSPORTATION

Federal Aviation Administration

14 CFR Part 39

[Docket No. FAA-2022-0152; Project Identifier MCAI-2021-00254-A; Amendment 39-21966; AD 2022-05-14]

RIN 2120-AA64

Airworthiness Directives; GROB Aircraft SE (Type Certificate Previously Held by GROB Aircraft AG) Airplanes

AGENCY: Federal Aviation Administration (FAA), DOT.

ACTION: Final rule; request for comments.

SUMMARY: The FAA is adopting a new airworthiness directive (AD) for all GROB Aircraft SE (type certificate previously held by GROB Aircraft AG) (GROB) Model G 115EG airplanes. This AD results from mandatory continuing airworthiness information (MCAI) issued by the aviation authority of another country to identify and correct an unsafe condition on an aviation product. The MCAI identifies the unsafe condition as in-flight detachment of a rudder actuator hinge bracket. This AD requires repairing the support structure at the attachment to the attachment bolts on certain flight control surfaces, inspecting the support structure at the attachment bolts of all flight control surfaces, and taking corrective actions if discrepancies are detected. The FAA is issuing this AD to address the unsafe condition on these products.

DATES: This AD is effective March 24, 2022.

The Director of the Federal Register approved the incorporation by reference of certain publications listed in this AD as of March 24, 2022.

The FAA must receive comments on this AD by April 25, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact GROB Aircraft SE, Lettenbachstrasse 9, Tussenhausen Mattsies, Germany, D-86874; phone: +49 (0) 8268 998 114; website: https://grob-aircraft.com/en/contact.html. You may view this service information at the FAA, Airworthiness Products Section, Operational Safety Branch, 901 Locust, Kansas City, MO 64106. For information on the availability of this material at the FAA, call (817) 222-5110. It is also available at https://www.regulations.gov by searching for and locating Docket No. FAA-2022-0152.

Examining the AD Docket

You may examine the AD docket at https://www.regulations.gov by searching for and locating Docket No. FAA-2022-0152; or in person at Docket Operations between 9 a.m. and 5 p.m., Monday through Friday, except Federal holidays. The AD docket contains this final rule, the MCAI, any comments received, and other information. The street address for the Docket Operations is listed above.

FOR FURTHER INFORMATION CONTACT: Fred Guerin, Aviation Safety Engineer, FAA, General Aviation & Rotorcraft Section, International Validation Branch, 2200 South 216th Street, Des Moines, WA 98198; phone: (206) 231-3500; email: fred.guerin@faa.gov.

SUPPLEMENTARY INFORMATION:

Comments Invited

The FAA invites you to send any written data, views, or arguments about this final rule. Send your comments to an address listed under ADDRESSES. Include “Docket No. FAA-2022-0152 and Project Identifier MCAI-2021-00254-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Fred Guerin, Aviation Safety Engineer, FAA, General Aviation & Rotorcraft Section, International Validation Branch, 2200 South 216th St. Des Moines, WA 98198. Any commentary that the FAA receives which is not specifically designated as CBI will be placed in the public docket for this rulemaking.

Background

The European Union Aviation Safety Agency (EASA), which is the Technical Agent for the Member States of the European Union, has issued EASA Emergency AD 2021-0057-E, dated February 26, 2021 (referred to after this as “the MCAI”), to address the unsafe condition on GROB Model G 115E and G 115EG airplanes. The MCAI states:

An occurrence has been reported of in-flight detachment of a rudder actuator hinge bracket. Subsequent inspection revealed that the attaching bolts penetrated the supporting structure to such an extent that the structure was no longer capable to withstand the loads. Penetrating attaching bolts cannot easily be detected. The same bolts are also on all other control surface hinge brackets.

This condition, if not detected and corrected, could lead to failure or detachment of a control surface, possibly resulting in loss of control of the aeroplane.

To address this potential unsafe condition, Grob published the [service bulletin] SB providing inspection and repair instructions.

For the reasons described above, this [EASA] AD requires a one-time inspection of the attachment of all flight control surfaces, and, depending on findings, accomplishment of applicable corrective action(s). This [EASA] AD also requires the reporting of inspection results.

This [EASA] AD is considered an interim action and further AD action may follow.

You may examine the MCAI in the AD docket at https://www.regulations.gov by searching for and locating Docket No. FAA-2022-0152.

Related Service Information Under 1 CFR Part 51

The FAA reviewed GROB Aircraft Service Bulletin MSB1078-205/5, dated October 5, 2021. This service information specifies performing visual and x-ray inspections of the support structure at the attachment bolts of all flight control surfaces and taking corrective actions if discrepancies are detected. This service information also specifies repairing the support structure at the attachment bolts on certain flight control surfaces as terminating action for the inspection.

The FAA also reviewed the following repair instructions, which contain repair instructions for certain attachment point positions:

• GROB Aircraft Repair Instruction No. RI-1078-92/1, dated June 2, 2021 (rudder and vertical stabiliser hinge bracket attachment points);

• GROB Aircraft Repair Instruction No. RI-1078-93/1, dated June 2, 2021 (flaps hinge bracket attachment points);

• GROB Aircraft Repair Instruction No. RI-1078-94/1, dated June 2, 2021 (aileron hinge bracket attachment points);

• GROB Aircraft Repair Instruction No. RI-1078-95/1, dated June 2, 2021 (elevator and horizontal stabilizer hinge bracket attachment points); and

• GROB Aircraft Repair Instruction No. RI-1078-97/1, dated June 2, 2021 (aileron and flap bellcrank hinge bracket attachment points).

This service information is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and service information referenced above. The FAA is issuing this AD because it has determined the unsafe condition described previously is likely to exist or develop on other products of the same type design.

AD Requirements

This AD requires accomplishing the actions specified in the service information already described, except as discussed under “Differences Between this AD and the MCAI.”

Differences Between This AD and the MCAI

The MCAI applies to the Model G 115E airplane, and this AD does not because it does not have an FAA type certificate. The MCAI requires an inspection and repair if discrepancies are found. For bolts in some control positions, this AD requires a repair before further flight without doing the inspection. The MCAI requires using GROB Aircraft Service Bulletin MSB1078-205/1, dated February 26, 2021, while this AD requires using the revised service information issued after the MCAI. The MCAI requires reporting the results of the inspection to GROB Aircraft SE, but this AD does not.

Interim Action

The MCAI was issued as interim action as a one-time inspection to address an immediate safety of flight issue. If EASA takes additional AD action, the FAA will evaluate and consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies foregoing notice and comment prior to adoption of this rule because there are no airplanes currently on the U.S. registry and thus, it is unlikely that the FAA will receive any adverse comments or useful information about this AD from U.S. operators. Accordingly, notice and opportunity for prior public comment are unnecessary pursuant to 5 U.S.C. 553(b)(3)(B).

In addition, the FAA finds that good cause exists pursuant to 5 U.S.C. 553(d) for making this amendment effective in less than 30 days, for the same reasons the FAA found good cause to forego notice and comment.

Costs of Compliance

There are currently no affected airplanes on the U.S. registry. In the event an affected airplane becomes a U.S.-registered airplane, the following is an estimate of the costs to comply with this AD.

The FAA estimates that it would take 40 work-hours per airplane to comply with control surface repair and the inspection in this AD. The average labor rate is $85 per work-hour. Required parts would cost about $1,500 per airplane.

Based on these figures, the FAA estimates the cost of this AD to be $4,900 per airplane.

In addition, the FAA estimates that repairing the support structure required when discrepancies are found during the required inspection would take 40 work-hours at an average labor rate of $85 per work-hour. Required parts would cost about $1,000 for a total cost of $4,400 per airplane.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-05-14 GROB Aircraft SE (Type Certificate Previously held by GROB Aircraft AG): Amendment 39-21966; Docket No. FAA-2022-0152; Project Identifier MCAI-2021-00254-A.

(a) Effective Date

This airworthiness directive (AD) is effective March 24, 2022.

(b) Affected ADs

None.

(c) Applicability

This AD applies to GROB Aircraft SE (type certificate previously held by GROB Aircraft AG) Model G 115EG airplanes, all serial numbers, certificated in any category.

(d) Subject

Joint Aircraft System Component (JASC) Code 2700, Flight Control System.

(e) Unsafe Condition

This AD was prompted by mandatory continuing airworthiness information (MCAI) originated by an aviation authority of another country to identify and correct an unsafe condition on an aviation product. The MCAI identifies the unsafe condition as in-flight detachment of a rudder actuator hinge bracket. The FAA is issuing this AD to detect attaching bolt penetration into the composite flight control surfaces, which, if not corrected, could lead to failure or detachment of a control surface and loss of airplane control.

(f) Compliance

Comply with this AD within the compliance times specified, unless already done.

(g) Inspection and Repair

Before further flight after the effective date of this AD, do the actions in paragraphs (g)(1) and (2) of this AD.

(1) For attachment bolts in control surface positions 3, 7, 12, 16, and 27, repair each bolt in accordance with paragraph 7, Repair/Instructions, of the following applicable service document, except you are not required to contact Grob:

(i) For the rudder and vertical stabilizer hinge bracket attachment points, GROB Aircraft Repair Instruction No. RI-1078-92/1, dated June 2, 2021.

(ii) For the flaps hinge bracket attachment points, GROB Aircraft Repair Instruction No. RI-1078-93/1, dated June 2, 2021.

(iii) For the aileron hinge bracket attachment points, GROB Aircraft Repair Instruction No. RI-1078-94/1, dated June 2, 2021.

(iv) For the elevator and horizontal stabilizer hinge bracket attachment points, GROB Aircraft Repair Instruction No. RI-1078-95/1, dated June 2, 2021.

(v) For the aileron and flap bellcrank hinge bracket attachment points, GROB Aircraft Repair Instruction No. RI-1078-97/1, dated June 2, 2021.

Note 1 to paragraph (g)(1): Control surface positions are shown on page 1 of the Appendix of GROB Aircraft Service Bulletin MSB1078-205/5, dated October 5, 2021.

(2) For attachment bolts in all other control surface positions, inspect each bolt for penetration into the supporting structure by following Part A, paragraphs 1.8.1 through 1.8.15, of the Accomplishment/Instructions in GROB Aircraft Service Bulletin MSB1078-205/5, dated October 5, 2021, except you are not required to contact GROB for repair approval. If a bolt moves on an attachment point or has penetrated a control surface, before further flight, repair the attachment point using the applicable repair instruction listed in paragraph (g)(1)(i) through (v) of this AD.

(h) Special Flight Permit

Special flight permits may be issued in accordance with 14 CFR 21.197 and 21.199 to operate the airplane to a location where the requirements of this AD can be accomplished provided that:

(1) Operation in visual meteorological conditions only.

(2) Takeoff and landing with maximum cross-wind of 10 kts.

(3) No flaps may be used during take-off, in flight, or landing.

(4) Spins are prohibited.

(5) Intentional side-slips are prohibited.

(6) Maximum airspeed: 125 KIAS.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Fred Guerin, Aviation Safety Engineer, FAA, General Aviation & Rotorcraft Section, International Validation Branch, 2200 South 216th Street, Des Moines, WA 98198; phone: (206) 231-3500; email: fred.guerin@faa.gov.

(2) Refer to European Union Aviation Safety Agency (EASA) Emergency AD 2021-0057-E, dated February 26, 2021, for more information. You may examine the EASA AD in the AD docket at https://www.regulations.gov by searching for and locating it in Docket No. FAA-2022-0152.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) GROB Aircraft Service Bulletin MSB1078-205/5, dated October 5, 2021.

(ii) GROB Aircraft Repair Instruction No. RI-1078-92/1, dated June 2, 2021.

(iii) GROB Aircraft Repair Instruction No. RI-1078-93/1, dated June 2, 2021.

(iv) GROB Aircraft Repair Instruction No. RI-1078-94/1, dated June 2, 2021.

(v) GROB Aircraft Repair Instruction No. RI-1078-95/1, dated June 2, 2021.

(vi) GROB Aircraft Repair Instruction No. RI-1078-97/1, dated June 2, 2021.

(3) For service information identified in this AD, contact GROB Aircraft SE, Lettenbachstrasse 9, Tussenhausen Mattsies, Germany, D-86874; phone: +49 (0) 8268 998 114; website: https://grob-aircraft.com/en/contact.html.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on February 25, 2022.
Lance T. Gant,
Director, Compliance & Airworthiness Division, Aircraft Certification Service.

[FR Doc. 2022-04914 Filed 3-8-22; 8:45 am]

BILLING CODE 4910-13-P